DEPARTMENT OF HEALTH AND HUMAN SERVICES

Health Resources and Services Administration

National Advisory Council on Nurse Education and Practice; Notice for Request for Nominations

SUMMARY: The Health Resources and Services Administration (HRSA) is requesting nominations to fill vacancies on the National Advisory Council on Nurse Education and Practice (NACNEP). The NACNEP is in accordance with the provisions of 42 United States Code (U.S.C.) 297t; Section 851 of the Public Health Service Act, as amended. The Council is governed by provisions of Public Law 92-463, which sets forth standards for the formation and use of advisory committees.

DATES: The agency will receive nominations on a continuous basis.

ADDRESSES: All nominations should be submitted to Regina Wilson, Advisory Council Operations, Bureau of Health Workforce, HRSA, 11w45c, 5600 Fishers Lane, Rockville, Maryland 20857. Mail delivery should be addressed to Regina Wilson, Advisory Council Operations, Bureau of Health Workforce, HRSA, at the above address, or via email to: RWilson@hrsa.gov.

FOR FURTHER INFORMATION CONTACT: Erin Fowler, Designated Federal Official, NACNEP, by phone at 301-443-7308 or by email at efowler@hrsa.gov. A copy of the current committee membership, charter and reports can be obtained by accessing the NACNEP Web site.

SUPPLEMENTARY INFORMATION: Under the authorities that established the NACNEP and the Federal Advisory Committee Act, HRSA is requesting nominations for new committee members. The NACNEP provides advice and recommendations to the Secretary and Congress in preparation of general regulations and concerning policy matters arising in the administration of Title VIII, including the range of issues relating to the nurse workforce, education, and practice improvement. Annually, the NACNEP prepares and submits to the Secretary, the Committee on Labor and Human Resources of the Senate, and the Committee on Commerce of the House of Representatives, a report describing the activities of the council, including findings and recommendations made by the NACNEP concerning the activities under Title VIII.

Specifically, HRSA is requesting nominations for voting members of the NACNEP representing leading authorities in the various fields of nursing, higher and secondary education, and associate degree schools of nursing; and from representatives of advanced education nursing groups (such as nurse practitioners, nurse midwives, and nurse anesthetists); from hospitals and other institutions and organizations which provide nursing services; from practicing professional nurses; from the general public; and full-time students enrolled in schools of nursing. The majority of NACNEP members shall be nurses.

The Department of Health and Human Services (HHS) will consider nominations of all qualified individuals with the areas of subject matter expertise noted above. Individuals may nominate themselves or other individuals, and professional associations and organizations may nominate one or more qualified persons for membership. Nominations shall state that the nominee is willing to serve as a member of the NACNEP and appears to have no conflict of interest that would preclude the NACNEP membership. Potential candidates will be asked to provide detailed information concerning financial interests, consultancies, research grants, and/or contracts that might be affected by recommendations of the NACNEP to permit evaluation of possible sources of conflicts of interest.

A nomination package should include the following information for each nominee: (1) A letter of nomination stating the name, affiliation, and contact information for the nominee, the basis for the nomination (i.e., what specific attributes, perspectives, and/or skills does the individual possess that would benefit the workings of NACNEP), and the nominee's field(s) of expertise; (2) a biographical sketch of the nominee and a copy of his/her curriculum vitae; and (3) the name, address, daytime telephone number, and email address at which the nominator can be contacted. Nominations will be considered as vacancies occur on the NACNEP. Nominations should be updated and resubmitted every 3 years to continue to be considered for committee vacancies.

HHS strives to ensure that the membership of HHS Federal advisory committees is fairly balanced in terms of points of view represented and the committee's function. Every effort is made to ensure that the views of women, all ethnic and racial groups, and people with disabilities are represented on HHS Federal advisory committees. The Department also encourages geographic diversity in the composition of the committee. The Department encourages nominations of qualified candidates from all groups and locations. Appointment to the NACNEP shall be made without discrimination on the basis of age, race, ethnicity, gender, sexual orientation, disability, and cultural, religious, or socioeconomic status.

Jackie Painter,
Director, Division of the Executive Secretariat.

[FR Doc. 2015-29195 Filed 11-16-15; 8:45 am]

BILLING CODE 4165-15-P